FEDERAL TRADE COMMISSION

16 CFR Part 802

Premerger Notification; Reporting and Waiting Period Requirements; Correction

AGENCY: Federal Trade Commission.

ACTION: Final rule, correction.

SUMMARY: This document contains the correction to the premerger notification final rule which was published Monday, March 18, 2002, (67 FR 11898). This document corrects a paragraph reference that appears in an example to § 802.51.

EFFECTIVE DATE: April 17, 2002.

FOR FURTHER INFORMATION CONTACT: Marian R. Bruno, Assistant Director, Karen E. Berg, Attorney, or B. Michael Verne, Compliance Specialist, Premerger Notification Office, Bureau of Competition, Room 303, Federal Trade Commission, 600 Pennsylvania Avenue, NW., Washington, DC 20580. Telephone: (202) 326-3100.

SUPPLEMENTARY INFORMATION: The final rule, as published, contained an error in the paragraph referenced in the examples to section 802.51.

Accordingly, the final rule for 16 CFR part 802, published in the Federal Register on March 18, 2002, is corrected as follows:

§ 802.51 [Corrected]

On page 11904, in § 802.51, in example 3, in the third column, in the second line “(b)(3)” is corrected to read “(b)(2)”.

Donald S. Clark,
Secretary.

[FR Doc. 02-7171 Filed 3-25-02; 8:45 am]

BILLING CODE 6750-01-M